FEDERAL COMMUNICATIONS COMMISSION

47 CFR Part 73

[DA 03-1537; MM Docket No. 02-13; RM-10357, RM-10493*]

Radio Broadcasting Services; Bunnell and Palm Coast, FL

AGENCY: Federal Communications Commission.

ACTION: Final rule.

SUMMARY: In response to a Notice of Proposed Rule Making, 67 FR 5961 (February 8, 2002) (“Notice”), this Report and Order allots Channel 254A to Palm Coast, Florida, and provides Palm Coast with its first local aural transmission service. This document also denies a mutually exclusive rulemaking request set forth in the Notice to allot the same channel to Bunnell, Florida. The Commission compared the merits of the two rulemaking proposals pursuant to the Commission's Revision of FM Assignment Policies and Procedures, 90 FCC 2d 88 (1982), and preferred the Palm Coast rulemaking proposal. The coordinates for Channel 254A at Palm Coast are 29-29-38 North Latitude and 81-09-45 West Longitude. This allotment has a site restriction of 11 kilometers (6.8 miles) southeast of Palm Coast.

DATES: Effective June 23, 2003.

FOR FURTHER INFORMATION CONTACT: R. Barthen Gorman, Media Bureau, (202) 418-2180.

SUPPLEMENTARY INFORMATION: This is a synopsis of the Commission's Report and Order, MM Docket No. 02-13, adopted May 7, 2003, and released May 9, 2003. The full text of this Commission decision is available for inspection and copying during normal business hours in the FCC's Reference Information Center at Portals II, 445 12th Street, SW., Room CY-A257, Washington, DC, 20554. The document may also be purchased from the Commission's duplicating contractor, Qualex International, Portals II, 445 12th Street, SW., Room CY-B402, Washington, DC, 20554, telephone (202) 863-2893. facsimile (202) 863-2898, or via e-mail qualexint@aol.com.

List of Subjects in 47 CFR Part 73

Radio, Radio broadcasting.

Part 73 of Title 47 of the Code of Federal Regulations is amended as follows:

PART 73—RADIO BROADCASTING SERVICES

1. The authority citation for Part 73 reads as follows:

Authority: 47 U.S.C. 154, 303, 334, and 336.

§ 73.202 [Amended]

2. Section 73.202(b), the Table of FM Allotments under Florida, is amended by adding Palm Coast, Channel 254A.

Federal Communications Commission.
John A. Karousos,
Assistant Chief, Audio Division, Media Bureau.

[FR Doc. 03-13073 Filed 5-23-03; 8:45 am]

BILLING CODE 6712-01-P